DEPARTMENT OF LABOR

Employment and Training Administration

[TA-W-50,932]

Fishing Vessel Miss Synova, Metlakatla, AK; Notice of Termination of Investigation

Pursuant to section 221 of the Trade Act of 1974, as amended, an investigation was initiated on February 19, 2003 in response to a petition filed by a company official on behalf of workers at Fishing Vessel Miss Synova, Metlakatla, Alaska.

The Department has been unable to locate the company official to obtain the information necessary to issue a determination on worker group eligibility. Consequently, further investigation in this case would serve no purpose, and the investigation has been terminated.

Signed at Washington, DC, this 8th day of April 2003.
Linda G. Poole,
Certifying Officer, Division of Trade Adjustment Assistance.

[FR Doc. 03-10353 Filed 4-25-03; 8:45 am]

BILLING CODE 4510-30-P